ENVIRONMENTAL PROTECTION AGENCY

40 CFR Part 300

[EPA-HQ-SFUND-1989-0008; FRL-9996-05-Region 3]

National Oil and Hazardous Substances Pollution Contingency Plan; National Priorities List: Deletion of the Strasburg Landfill Superfund Site

AGENCY: Environmental Protection Agency (EPA).

ACTION: Proposed rule; notice of intent.

SUMMARY: The Environmental Protection Agency (EPA) Region 3 is issuing a Notice of Intent to Delete the Strasburg Landfill Superfund Site (Site) located in Newlin and West Bradford Townships, Chester County, Pennsylvania from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the Commonwealth of Pennsylvania, through the Pennsylvania Department of Environmental Protection (PADEP, Southeast Region), have determined that all appropriate response actions under CERCLA, other than operation and maintenance (O&M), monitoring, and Five-Year Reviews, have been completed. However, this deletion does not preclude future actions under Superfund.

DATES: Comments must be received by August 2, 2019.

ADDRESSES: Submit your comments, identified by Docket ID no. EPA-HQ-SFUND-1989-0008, by one of the following methods:

• https://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

• Email: greaves.david@epa.gov.

• Mail: USEPA Region III, 1650 Arch Street, Philadelphia, PA 19103.

• Hand delivery: USEPA Region III, 1650 Arch Street, Philadelphia, PA 19103. Such deliveries are only accepted during the Docket's normal hours of operation, and special arrangements should be made for deliveries of boxed information.

Instructions: Direct your comments to Docket ID no. EPA-HQ-SFUND-1989-0008. EPA's policy is that all comments received will be included in the public docket without change and may be made available online at https://www.regulations.gov, including any personal information provided, unless the comment includes information claimed to be Confidential Business Information (CBI) or other information whose disclosure is restricted by statute. Do not submit information that you consider to be CBI or otherwise protected through https://www.regulations.gov or email. The https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in the hard copy. Publicly available docket materials are available either electronically in https://www.regulations.gov or in hard copy at: USEPA Region III Administrative Records Room: 1650 Arch Street—6th Floor, Philadelphia, PA 19103-2029, (215) 814-3157, Business Hours: Monday through Friday, 8:00 a.m.-4:30 p.m.; by appointment only.

Local Repository: Kennett Library, 216 East State Street, Kennett Square, PA 19348, (610) 444-2702, Business Hours: Monday through Friday, 9:00 a.m.-8:00 p.m.

SUPPLEMENTARY INFORMATION:

Table of Contents

I. Introduction

II. NPL Deletion Criteria

III. Deletion Procedures

IV. Basis for Intended Site Deletion

I. Introduction

EPA Region 3 announces its intent to delete the Strasburg Landfill Superfund Site from the NPL and requests public comment on this proposed action. The NPL constitutes Appendix B of 40 CFR part 300 which is the NCP, which EPA promulgated pursuant to section 105 of the CERCLA of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this site for thirty (30) days after publication of this document in the Federal Register.

Section II of this document explains the criteria for deleting sites from the NPL. Section III discusses procedures that EPA is using for this action. Section IV discusses the Strasburg Landfill Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth, whether any of the following criteria have been met:

(1) Responsible parties or other persons have implemented all appropriate response actions required;

(2) All appropriate Fund-financed response under CERCLA has been implemented, and no further response action by responsible parties is appropriate; or

(3) The remedial investigation has shown that the release poses no significant threat to public health or the environment and, therefore, the taking of remedial measures is not appropriate.

Pursuant to CERCLA section 121(c) and the NCP, EPA conducts Five-Year Reviews to ensure the continued protectiveness of remedial actions where hazardous substances, pollutants, or contaminants remain at a site above levels that allow for unlimited use and unrestricted exposure. EPA conducts such Five-Year Reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the Commonwealth of Pennsylvania before developing this Notice of Intent to Delete;

(2) EPA has provided the Commonwealth of Pennsylvania 30 working days for review of this notice prior to publication of it today;

(3) In accordance with the criteria discussed above, EPA has determined that no further response is appropriate;

(4) The Commonwealth of Pennsylvania, through PADEP (Southeast Region), has concurred with deletion of the Site from the NPL;

(5) Concurrently with the publication of this Notice of Intent to Delete in the Federal Register, a notice is being published in a major local newspaper, the Daily Local News. The newspaper notice announces the 30-day public comment period concerning the Notice of Intent to Delete the site from the NPL;

(6) The EPA placed copies of documents supporting the proposed deletion in the deletion docket and made these items available for public inspection and copying at the Site information repositories identified above.

If comments are received within the 30-day public comment period on this document, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Intended Site Deletion

The following information provides EPA's rationale for deleting the Site from the NPL:

Site Background and History

EPA proposed the Site (EPA ID PAD000441337) to the NPL on June 24, 1988 (53 FR 23978) and added the Site to the NPL on March 31, 1989 (54 FR 13296). The Site is located south and slightly east of Strasburg Road in Newlin Township, Chester County, Pennsylvania.

The Site includes a 24-acre inactive landfill located on two parcels totaling approximately 209 acres of undeveloped land. In addition to the 209 acres, the Site also includes an access road on a 14.5-acre parcel that provides access from Strasburg Road to the Site. The access road is located in Newlin and West Bradford Townships. The topography of the area is characterized by a combination of steep and gentle hills. In general, the land in the Site area slopes towards, and drains to the Brandywine Creek, or Briar Run, a tributary. These streams form the eastern and western boundaries of the Site area. A small wetlands area has been created on the eastern side of the landfill along Briar Run. The wetlands receive the discharge from the Site's leachate collection system prior to ultimately discharging into Briar Run. Groundwater flow at the Site is to the south, southwest, and southeast.

Land use in the area is primarily suburban residential, with some residual agricultural areas. There are more than 300 single family residences within a one-mile radius of the Site. The drinking water to these residences is primarily supplied from groundwater. Most of the homes are served by private home wells. A 57-acre parcel, adjacent to the two parcels on which the landfill is situated and abutting Strasburg Road, was acquired by West Bradford Township in August 2007 through a property sheriff sale. The West Bradford parcel is currently used for township lawn waste composting.

The Site began to accept municipal and industrial waste in 1978. The landfill operators were cited by PADEP for numerous operational violations, and the landfill was closed in 1984. During its period of operation, the landfill accepted approximately three million cubic yards of waste. Following closure, the landfill began discharging leachate into the surrounding area, including Briar Run.

Initial sampling on and around the landfill showed elevated levels of vinyl chloride (VC) and trichloroethene (TCE) both in leachate seeps emanating from the landfill and also in home wells adjacent to the Site. Subsequent inspections and sampling showed that the existing landfill cap had failed in numerous locations and that contaminants were flowing both into nearby surface water streams and into the groundwater.

PADEP required the landfill operators to collect the leachate and transport it offsite for treatment at a nearby municipal sewage treatment plant. The leachate was collected until July 1989 when the landfill operators gave notice that they would no longer operate the leachate collection system. PADEP operated the system on an interim basis until EPA took over operations of the temporary leachate collection system in September 1989.

Remedial Investigation (RI) and Feasibility Study (FS)

The RI for the Site was performed by Ecology and Environment, Inc. (E&E) for EPA beginning in March 1989 to assess the nature and extent of contamination and document the potential for contaminant migration from the Site.

E&E field activities conducted during the RI included:

• Installation of four shallow (MW-1S, MW-2S, MW-3S, and MW-4S) and five intermediate depth (MW1I, MW-2I, MW-3I, MW-4I, and MW-5I) downgradient monitoring wells;

• Sampling and analysis of soils extracted during well installation;

• Surface water, sediment, and bioassay sampling from onsite locations and locations in Briar Run and Brandywine Creek;

• Soil gas sampling at a grid area southeast of the landfill and around the landfill perimeter;

• Packer injection testing of the intermediate-depth monitoring wells;

• Packer production testing of both shallow (120 feet total depth) and deep (300 feet total depth) residential wells;

• Residential well sampling and analysis;

• Sampling and analysis of new monitoring wells installed in 1990 and well M5, installed in 1984; and

• Ambient air sampling.

Contaminants of concern (COCs) at the Site included volatile and base-neutral organics and selected inorganics. Volatile organic compounds (VOCs) were detected in ambient air, soil gas, soil, groundwater, surface water, sediment, and seep areas. The distribution of base-neutral and inorganic contamination was limited primarily to the sediment and water in the seep areas and in the sediment pond. The observed contaminant distribution reflected the differing mobilities of the different compounds, with the widest distribution observed in the most mobile class of compounds, VOCs. Tetrachloroethene (TCE), VC, and 1,2-dichloroethene (1,2-DCE) were the most widespread contaminants identified at this Site.

Mechanisms for transport of organic compounds from the landfill included landfill gas emissions that elevate contaminants in the ambient air and soil gas. Gas emissions escaping through the landfill cover were measured at selected locations on the landfill using a stainless steel flux box. Elevated concentrations of PCE (up to 567 parts per billion (ppb)) and VC (up to 129 ppb) were measured in the gas collected in the flux box samples. Soil gas concentrations measured at perimeter locations surrounding the landfill had generally high concentrations of VOCs, with concentrations up to 11,000 ppb VC and up to 3,000 ppb PCE. Although maximum VOC concentrations detected in ambient air samples (0.09 ppb PCE, 0.48 ppb VC, and 0.64 ppb 1,2-DCE) were much lower than concentrations detected in the soil gas, levels still exceeded background ambient air concentrations.

Precipitation entering the landfill through the cap generated leachate and provided an additional mechanism for contaminant migration. Leachate generated by the landfill was contaminated with organic and inorganic compounds. Once generated, leachate migrated from the landfill to the underdrain system, to the surface water as seeps via interflow, and to the groundwater. Surface water collected from the seeps and on the surrounding landfill indicated elevated concentrations of VC (19 micrograms per liter)(μg/L) and cis-1,2-DCE (54 μg/L) likely to have been derived from landfill leachate. Elevated concentrations of PCE (214 μg/L); 1,2-DCE (129 μg/L); and VC (19.5 μg/L) were detected in groundwater downgradient of the landfill.

Two homes located downgradient of the landfill had relatively low levels of VOCs in their water supply wells (up to 80.8 μg/L total VOCs.) These homes were equipped with whole-house point-of-use carbon filters to provide potable water by EPA in 1989, as described in additional detail in the following section.

A diversity of ecological resources exists in the area surrounding the landfill. These resources include river, wetland, forest, and open field ecosystems that harbor abundant wildlife populations. Exposure of plants and wildlife to landfill contaminants appeared to be limited to seep areas and soil on the landfill perimeter, with some limited evidence of potential exposure to aquatic biota in areas downstream from the Site. For aquatic and terrestrial life residing on the landfill perimeter and having frequent contact with contaminant source areas, there was a potential risk of toxic effects of contamination.

Response Actions

The remedial action objectives (RAOs) for the Site, as described in the Site decision documents, are to minimize migration of contaminants to ground and surface waters and to prevent direct contact with, or ingestion of, contaminants.

EPA divided the cleanup of the Site into four operable units (OUs). EPA issued a series of Records of Decision (RODs) for the OUs, which selected the remedies necessary to protect human health and the environment from contaminants at the Site. The first ROD for OU1, dated June 29, 1989, addressed leachate releases into surface water and groundwater near the landfill. The selected remedy was to collect leachate and treat and dispose of it offsite, as well as provide point-of-use carbon treatment for contaminated residential wells.

However, the potentially responsible parties (PRPs) ceased performing work at the Site in July 1989. Because the PRPs ceased the offsite disposal of collected leachate, the selected remedy outlined in the June 1989 ROD was no longer considered adequate. The first Explanation of Significant Differences (ESD) was issued on January 3, 1990 to change the method of leachate treatment to onsite treatment via air-stripping and discharge to Briar Run. The onsite treatment system was constructed from March 1990 through March 1991 and the Remedial Action for OU1 was approved on March 27, 1991.

In 1989, EPA installed whole-house carbon filtration systems in two private residences down gradient of the Site. EPA monitored and maintained the systems until PADEP took over responsibility for Operation and Maintenance (O&M) for the Site in 2001. No Site-related contaminants have been detected at levels exceeding the Maximum Contaminant Levels (MCLs) in any wells prior to treatment since 1995. PADEP maintained the carbon units and monitored the groundwater from the residential wells pre-filter and post-filter until 2010 when maintenance and monitoring of the residential systems was discontinued based on the many years of sampling results not exceeding MCLs and the stability of the plume.

The second ROD for OU2, dated June 28, 1991, addressed Site access and security. EPA installed a security fence with warning signs around the entire perimeter of the landfill from October through December 1992. The Remedial Action for OU2 was approved on December 23, 1992.

Pursuant to the ROD for OU3, dated March 31, 1992, EPA constructed a multi-layer cap over the landfill portion of the Site, a landfill subsurface leachate collection system, and a leachate treatment system, from August 1996 through September 1999. The Remedial Action for OU3 was approved on September 29, 2000. The landfill was re-graded, creating less steep slopes, which conformed to the current landfill grading practices. All of the weeds, brush, and small trees, which had grown up on the landfill, were removed and an impermeable liner was placed over the entire landfill area. Approximately 600,000 cubic yards of earthen material was placed over the landfill as part of this reconstruction.

The leachate treatment system actively treated all leachate from the landfill until 2010. Following the successful pilot test in 2009-2010, the onsite wetland now serves as a passive treatment system for the leachate. The leachate, after being distributed via underground level spreaders in the up-gradient portions of the wetland, eventually discharges to Briar Run. A gas-flare system which collected and safely burned gases developed in the landfill has been operated since 1999. However, due to a decrease in the volume of gas generated by the landfill, operation of the flare has become difficult. PADEP requested and EPA evaluated a change to passive gas venting for the Site. This request was approved by EPA in April 2016.

Finally, on September 27, 1999, EPA issued a “No Action” ROD for groundwater associated with the Site (OU4). This decision was based on groundwater data which demonstrated that Site-related contaminants were not migrating offsite from under the landfill cap.

The Preliminary Close Out Report (PCOR), documenting construction completion at the Site, was issued on September 27, 1999. Under the terms of the Superfund State Contract (SSC), PADEP has maintained and operated the Site remedies since 2001. EPA issued the Final Close Out Report (FCOR) on March 18, 2019 to document that all response actions at the Site had been successfully completed in accordance with Close Out Procedures for National Priorities List Sites (OSWER Directive 9320.2-22, May 2011).

Institutional Controls (ICs)

ICs for the Site were developed as a result of recommendations in the 2010 Five-Year Review. The required ICs were selected via a second ESD dated September 4, 2012. The ICs selected for the Site include the following:

• Prohibit activities on the Site within or near the existing security fencing that would in any manner disturb or interfere with the remedial systems, including the landfill cap, gas vents, monitoring wells, leachate collection and conveyance system, and security measures that prevent access to the landfill. Such prohibited activities include, but are not limited to, digging in the landfill cap or tampering with the hardware associated with the gas vents, monitoring wells, leachate collection and conveyance systems, or the security fencing.

• Prohibit any use of landfill leachate unless approved by the EPA, in consultation with PADEP, to avoid exposure to contaminants in the leachate via ingestion, vapor inhalation or dermal contact.

• Prohibit installation of groundwater wells on the Site within the existing security fencing without notice and approval of the EPA, in consultation with PADEP, to avoid exposure to contaminants in groundwater via ingestion, inhalation, or dermal contact.

• Prohibit installation and pumping of new groundwater wells within one-quarter of a mile of the identified plume of the Site which may influence the Site hydrology without notice and approval of EPA, in consultation with PADEP, to avoid the migration of contaminants from under the cap and exposure to contaminants in groundwater via ingestion, inhalation, or dermal contact.

The ICs have been implemented through an Environmental Covenant (EC) recorded by the landfill property owner with the Chester County Recorder of Deeds on December 27, 2013. The EC describes the following activity and use limitations the property owner shall abide by:

• Any and all activity on the Property that could in any manner disturb or interfere with the selected remedial systems, including the landfill cap, gas vents, monitoring wells, leachate collection and conveyance system, and security measures that prevent access to the landfill, is prohibited;

• Any and all contact, handling, or use of landfill leachate is prohibited without the prior written approval of the Agencies;

• The installation of groundwater wells on the property within the existing fencing is prohibited without the prior written approval of the Agencies; and

• The installation and pumping of new groundwater wells on the Property within one-quarter mile of the identified plume is prohibited without the prior written approval of the Agencies.

In addition, the Natural Lands Trust, Inc. (NLT), a non-profit conservancy, accepted a conservation easement from the property owner for portions of the property to permanently protect natural features of the property including: Deciduous woodlands, steep slopes, a cold-water stream and breeding bird habitat, etc. in October 2014.

Finally, via the 2012 ESD, EPA implemented ICs placing restrictions on installation and pumping of new groundwater wells within one-quarter of a mile of the identified plume through application of the Chester County Health Department (CCHD) regulations relating to installation of wells in the county. The CCHD regulations require a permit for any new supply wells prior to installation. The CCHD regulations also require sampling of any new well installed to demonstrate that it meets drinking water standards before permission from the CCHD is granted to use the new well for drinking purposes.

Cleanup Levels

In a letter dated December 12, 2013, PADEP requested that EPA consider removing groundwater monitoring from PADEP's O&M obligations at the Site. EPA evaluated the request as a part of the 2015 Five-Year Review and determined that the frequency of sampling could be reduced from the biannual sampling requirement to a frequency of one sampling event per Five-Year Review cycle, to occur no later than the fourth year of the Five-Year Review cycle. Groundwater monitoring will continue to be performed by PADEP once every Five-Year Review cycle.

The most recent sampling events occurred on April 2010 and March 2014 as a part of the 2015 Five-Year Review. Onsite and perimeter wells were sampled at this time. The 1999 OU4 ROD selected No Action for groundwater, therefore, no groundwater cleanup levels exist for the Site. However, for the purposes of evaluating the groundwater monitoring results, detected contaminant concentrations were compared to MCLs for contaminants with MCLs or to PADEP Land Recycling Program (Act 2) SHS MSCs for a residential used aquifer for contaminants without MCLs. In reviewing all the historic data, including the two most recent sampling events, it was determined that were no exceedances of the MCLs or MSCs. This remains consistent with EPA's No Action determination for groundwater in the 1999 ROD and supports the determination that the other remedial actions are operating as intended.

As indicated above, no Site-related contaminants have been detected in residential wells at concentrations exceeding the MCLs since 1995 and sampling and O&M of the systems was discontinued in 2010. Additionally, because no Site-related contaminants have been detected in the landfill monitoring wells exceeding MCLs or MSCs, there is no potential for future impacts to residential wells from the Site.

Operation and Maintenance

In accordance with the SSC, PADEP has been responsible for O&M of the remedy components at the Site since September 2011. The leachate collection and treatment system treated and discharged an approximate total of 6,153,000 gallons of leachate since PADEP assumed responsibility. As mentioned earlier, the mechanical leachate treatment system was deactivated in 2010, and the onsite wetland now serves as a passive treatment system for removal of the low concentrations of contaminants from the leachate.

The leachate, after being distributed via underground level spreaders in the up-gradient portions of the wetland, eventually discharges to Briar Run. The National Pollutant Discharge Elimination System (NPDES) equivalent discharge criteria was modified by PADEP's water program on August 2, 2013 for leachate discharge to Briar Run through passive wetlands treatment system modifications. All NPDES equivalent discharge criteria have been attained since 2013 and no problems or issues have been identified with the passive treatment system to date.

Groundwater monitoring as a component of O&M will continue to be performed by PADEP no later than the fourth year of every Five-Year Review cycle.

During the most recent Five-Year Review period, in the spring, summer and fall months, the landfill cap was routinely mowed approximately 6-8 times per year. The landfill vegetative cover has maintained its integrity, with no major erosion issues. EPA has recommended that PADEP evaluate low maintenance caps planted with native vegetation to reduce or eliminate mowing and increase habitat for wildlife.

Five-Year Review

Pursuant to CERCLA section 121(c) and as provided in the current guidance on Five-Year Reviews, Comprehensive Five-Year Review Guidance (OSWER Directive 9355.7-03B-P, June 2001), EPA must conduct a statutory Five-Year Review if hazardous substances remain on-site above levels that would not allow for unlimited use and unrestricted exposure. Statutory Five-Year Reviews have been conducted at the Site in 1994, 1999, 2005, 2010 and 2015. The Protectiveness Statement in the 2015 Fifth Five-Year Review was as follows: “The remedies have been implemented at this Site and are protective of human health and the environment. Institutional controls were identified and selected in the September 4, 2012 Second ESD for the Site and are being implemented through an Environmental Covenant recorded December 27, 2013, and additionally, through Chester County Health Department regulations relating to well installation. These ICs will be used to prevent exposure to waste and contaminated groundwater and to preserve the integrity of the components of the remedies (cap, fence, leachate collection and treatment system, etc.). The Site operation and maintenance and sampling plans should be updated to reflect changes in site operations, maintenance and sampling plan that are not consistent with current Site conditions.”

The only issue and recommendation from the 2015 Five-Year Review was to “Update the O&M and Sampling Plan.” This issue and recommendation were addressed in October 2016 when an updated O&M and Sampling Plan was submitted to and approved by EPA. Data collected since the 2015 Five-Year Review does not call into question any of the findings presented in that report.

The next Five-Year Review for this Site is scheduled to be completed in April 2020 and every five years thereafter.

Community Involvement

EPA community relations staff conducted an active campaign to ensure that the residents were well informed about activities at the Site. Community relations activities included the following:

• Interviews of Township officials for Five-Year Reviews

• Fact Sheets

In accordance with the requirements of 40 CFR 300.425(e)(4), EPA's community involvement activities associated with this deletion will consist of placing the deletion docket in the local Site information repository and placing a public notice of EPA's intent to delete the Site from the NPL in the Daily Local News, a major local newspaper of general circulation. EPA is also providing a 30-day comment period and will respond to significant comments and significant data in accordance with 40 CFR 300.425(e)(4)(iii)(iv).

Determination That the Site Meets the Criteria for Deletion in the NCP

Construction completion for the Site was documented in the Preliminary Closeout Report (PCOR), dated September 27, 1999. Site completion was documented in the Final Closeout Report (FCOR), dated March 18, 2019. All RAOs, performance standards, and cleanup levels established in the 1989 OU1 ROD, 1990 ESD, 1991 OU2 ROD, 1992 OU3 ROD, 1999 OU4 ROD, and the 2012 ESD have been achieved at the Site, and the Selected Remedy is protective of human health and the environment. ICs are in place and effective. No further Superfund response actions, other than O&M, monitoring, and Five-Year Reviews, are necessary to protect human health and the environment.

The procedures specified in 40 CFR 300.425(e) have been followed for the deletion of the Site. EPA, with concurrence of the Commonwealth of Pennsylvania through the PADEP, has determined that all appropriate response actions under CERCLA have been completed. Therefore, EPA is issuing this Notice of Intent to Delete the Site from the NPL.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: June 20, 2019.
Cosmo Servidio,
Regional Administrator, EPA Region III.

[FR Doc. 2019-14251 Filed 7-2-19; 8:45 am]

BILLING CODE 6560-50-P